DEPARTMENT OF THE INTERIOR

Minerals Management Service

Agency Information Collection Activities: Proposed Collection; Comment Request

AGENCY: Minerals Management Service (MMS), Interior.

ACTION: Notice of extension of an information collection (1010-0067).

SUMMARY: To comply with the Paperwork Reduction Act of 1995 (PRA), MMS is inviting comments on a collection of information that we will submit to the Office of Management and Budget (OMB) for review and approval. The information collection request (ICR) concerns the paperwork requirements in the regulations under 30 CFR 250, Subpart E, “Oil and Gas Well-Completion Operations.”

DATE: Submit written comments by March 30, 2007.

ADDRESSES: You may submit comments by any of the following methods listed below. Please use the Information Collection Number 1010-0067 as an identifier in your message.

• E-mail MMS at rules.comments@mms.gov. Identify with Information Collection Number 1010-0067 in the subject line.

• Fax: 703-787-1093. Identify with Information Collection Number 1010-0067.

• Mail or hand-carry comments to the Department of the Interior; Minerals Management Service; Attention: Cheryl Blundon; 381 Elden Street, MS-4024; Herndon, Virginia 20170-4817. Please reference “Information Collection 1010-0067” in your comments.

FOR FURTHER INFORMATION CONTACT: Cheryl Blundon, Regulations and Standards Branch at (703) 787-1607. You may also contact Cheryl Blundon to obtain a copy, at no cost, of the regulations that require the subject collection of information.

SUPPLEMENTARY INFORMATION: Title: 30 CFR Part 250, Subpart E, Oil and Gas Well-Completion Operations.

OMB Control Number: 1010-0067.

Abstract: The Outer Continental Shelf (OCS) Lands Act, 43 U.S.C. 1331 et seq. and 43 U.S.C. 1801 et. seq., requires the Secretary of the Interior to preserve, protect, and develop oil and gas resources in the OCS in a manner that is consistent with the need to make such resources available to meet the Nation's energy needs as rapidly as possible; balance orderly energy resources development with protection of the human, marine, and coastal environment; ensure the public a fair and equitable return on OCS resources; and preserve and maintain free enterprise competition. Section 1332(6) of the OCS Lands Act (43 U.S.C. 1332) requires that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.” This authority and responsibility are among those delegated to the Minerals Management Service (MMS). To carry out these responsibilities, MMS issues regulations governing oil and gas and sulphur operations in the OCS. This information collection request (ICR) addresses 30 CFR part 250, Subpart E, Oil and Gas Well-Completion Operations and the associated supplementary Notices to Lessees and Operators (NTL) intended to provide clarification, description, or explanation of these regulations.

Regulations at 30 CFR part 250 implement these statutory requirements. The MMS District Managers analyze and evaluate the information and data collected under Subpart E to ensure that planned well-completion operations will protect personnel safety and natural resources. They use the analysis and evaluation results in the decision to approve, disapprove, or require modification to the proposed well-completion operations. Specifically, MMS uses the information to ensure: (a) Compliance with personnel safety training requirements; (b) crown block safety device is operating and can be expected to function to avoid accidents; (c) proposed operation of the annular preventer is technically correct and provides adequate protection for personnel, property, and natural resources; (d) well-completion operations are conducted on well casings that are structurally competent; and (e) sustained casing pressures are within acceptable limits.

We will protect information from respondents considered proprietary under the Freedom of Information Act (5 U.S.C. 552) and its implementing regulations (43 CFR part 2) and under regulations at 30 CFR 250.197, “Data and information to be made available to the public.” No items of a sensitive nature are collected. Responses are mandatory.

Frequency: On occasion, weekly, monthly, annually, and varies by section.

Estimated Number and Description of Respondents: Approximately 130 Federal OCS lessees and operators.

Estimated Reporting and Recordkeeping “Hour” Burden: The currently approved annual reporting burden for this collection is 11,995 hours. The following chart details the individual components and respective hour burden estimates of this ICR. In calculating the burdens, we assumed that respondents perform certain requirements in the normal course of their activities. We consider these to be usual and customary and took that into account in estimating the burden.

Citation 30 CFR 250 Subpart E & LTL/NTL | Reporting and recordkeeping requirement | Hour burden
502 | Request approval not to shut-in well during equipment movement | 1 hour
502 | Notify MMS of well-completion rig movement on/off platform or from well to well on same platform (Form MMS-144) (reference § 250.403) | Burden included in 1010-0150.
505; 513; 515(a) | Submit forms MMS-123, MMS-124, MMS-125 for various approvals, including remediation procedure for SCP | Burden included in 1010-0141.
506 | Instruct crew members in safety requirements of operations to be performed; document meeting (weekly for 2 crews × 2 weeks per completion = 4) | 20 minutes
511 | Perform operational check of traveling-block safety device; document results (weekly × 2 weeks per completion = 2) | 6 minutes
512 | Request field well-completion rules be established, amended or canceled (on occasion, however, there have been no requests in many years) | 1 hour.
514(c); 515(a) | Calculate well-control fluid volume and post near operator's station; submit well-control procedure | 1 hour.
516 tests; 516(i),(j) | Record BOP test results; retain records 2 years following completion of well (when installed; minimum every 7 days; as stated for component); request alternative methods | ¼ hour.
516(d)(5) test; 516(i) | Function test annulars and rams; document results (every 7 days between BOP tests-biweekly; note: part of BOP test when conducted) | ½ hour.
516(e) | Record reason for postponing BOP system tests (on occasion) | 10 minutes.
516(f) | Perform crew drills; record results (weekly for 2 crews × 2 weeks per completion = 4) | ½ hour.
517(b) | Pressure test, caliper, or otherwise evaluate tubing & wellhead equipment casing; submit results (every 30 days during prolonged operations) | 9 hours.
517(c); LTL*/NTL | Notify MMS if sustained casing pressure is observed on a well | ¼ hour.
LTL/NTL | Report failure of casing pressure to bleed to zero including plan to remediate | 4 hours.
LTL/NTL | Notify MMS when remediation procedure is complete | 1 hour.
LTL | Retain complete record of well's casing pressure for 2 years and retain diagnostic test records permanently | ¼ hour.
LTL | Record diagnostic test results | ¼ hours.
500-517 | General departure and alternative compliance requests not specifically covered elsewhere in Subpart E regulations | 2 hours.
* LTL dated 13 January 1994.

Estimated Reporting and Recordkeeping “Non-Hour Cost” Burden: We have identified no “non-hour cost” burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * * ”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: MMS's practice is to make comments, including names and addresses of respondents, available for public review. If you wish your name and/or address to be withheld, you must state this prominently at the beginning of your comment. MMS will honor this request to the extent allowable by law; however, anonymous comments will not be considered. There may be circumstances in which we would withhold from the record a respondent's identity, as allowable by the law. If you wish us to withhold your name and/or address, you must state this prominently at the beginning of your comment. In addition, you must present a rationale for withholding this information. This rationale must demonstrate that disclosure “would constitute an unwarranted invasion of privacy.” Unsupported assertions will not meet this burden. In the absence of exceptional, documentable circumstances, this information will be released. All submissions from organizations or businesses, and from individuals identifying themselves as representatives or officials of organizations or businesses, will be made available for public inspection in their entirety.

MMS Information Collection Clearance Officer: Arlene Bajusz (202) 208-7744.

Dated: January 19, 2007.
E.P. Danenberger,
Chief, Office of Offshore Regulatory Programs.

[FR Doc. E7-1288 Filed 1-26-07; 8:45 am]

BILLING CODE 4310-MR-P